DEPARTMENT OF AGRICULTURE

Agricultural Marketing Service

[Docket Number FV-06-306]

United States Standards for Grades of Peppers (Other Than Sweet Peppers)

AGENCY: Agricultural Marketing Service, USDA.

ACTION: Notice.

SUMMARY: The Agricultural Marketing Service (AMS) of the Department of Agriculture (USDA) is soliciting comments on the proposed voluntary United States Standards for Grades of Peppers (Other Than Sweet Peppers). This action is being taken at the request of the Fruit and Vegetable Industry Advisory Committee, which asked AMS to identify commodities that needed grade standards developed to facilitate commerce. The proposed standards would provide industry with a common language and uniform basis for trading, thus promoting the orderly and efficient marketing of peppers that are not sweet peppers.

DATES: Comments must be received by September 22, 2006.

ADDRESSES: Interested persons are invited to submit written comments to the Standardization Section, Fresh Products Branch, Fruit and Vegetable Programs, Agricultural Marketing Service, U.S. Department of Agriculture, 1400 Independence Ave. SW., Room 1661, South Building, Stop 0240, Washington, DC 20250-0240, fax (202) 720-8871, e-mail FPB.DocketClerk@usda.gov. Comments should make reference to the dates and page number of this issue of the Federal Register and will be made available for public inspection in the above office during regular business hours and on the Internet.

The draft of the proposed United States Standards for Grades of Peppers (Other Than Sweet Peppers) is available either from the above address or by accessing AMS, Fresh Products Branch website at: http://www.ams.usda.gov/fv/fpbdocketlist.htm.

FOR FURTHER INFORMATION CONTACT: Cheri L. Emery, at the above address or call (202) 720-2185, e-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is proposing to establish voluntary United States Standards for Grades of Peppers (Other Than Sweet Peppers) using the procedures that appear in Part 36, Title 7 of the Code of Federal Regulations (7 CFR part 36).

Background

At a meeting of the Fruit and Vegetable Industry Advisory Committee, AMS was asked to identify fresh fruit and vegetables that may be better served if grade standards are developed. As a result, AMS identified peppers that were not sweet peppers as possibly in need of official grade standards. Such standards are used by the fresh produce industry to describe the product they are trading, thus facilitating the marketing of the product.

Prior to undertaking research and other work associated to develop the standards, AMS published a notice in the Federal Register (71 FR 9514), on February 24, 2006, soliciting comments on the possible development of United States Standards for Grades of Peppers (Other Than Sweet Peppers). In response to the request for comments, AMS received two comments, one comment was from an industry group, and one from a pepper shipper. Both comments were in support of developing the standards. The comments are available by accessing AMS, Fresh Products Branch Web site: http://www.ams.usda.gov/fvfpbdocketlist.htm.

Based on the comments received and information gathered, AMS has developed proposed grade standards for peppers other than sweet peppers. This proposal would establish the following grades, as well as a tolerance for each grade: U.S. Fancy, U.S. No. 1 and U.S. No. 2. In addition, there are proposed “Tolerances,” “Application of Tolerances,” and “Size” sections. AMS is proposing to define “Injury,” “Damage,” and “Serious Damage,” with specific basic requirements and definitions for defects, along with definitions for color, diameter, and length. AMS is soliciting comments on the proposed voluntary United States Standards for Grades of Peppers (Other Than Sweet Peppers).

The adoption of these proposed standards would provide industry with U.S. grade standards similar to those extensively in use by the fresh produce industry to assist in orderly marketing of other commodities.

The official grade of a lot or shipment of fresh vegetables covered by U.S. standards is determined by the procedures set forth in the Regulations Governing Inspection, Certification, and Standards of Fresh Fruits, Vegetables and Other Products (Sec. 51.1 to 51.61).

This notice provides for a 60-day comment period for interested parties to comment on the proposed United States Standards for Grades of Peppers (Other Than Sweet Peppers).

Authority: 7 U.S.C. 1621-1627.

Dated: July 18, 2006.
Lloyd C. Day,
Administrator, Agricultural Marketing Service.

[FR Doc. E6-11740 Filed 7-21-06; 8:45 am]

BILLING CODE 3410-02-P